FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Alo Enterprise Corporation (OFF & NVO), 225 Chambers Street, Trenton, NJ 08609, Officers: Amr M. Rihan, President, (Qualifying Individual), Fida Dahrouj, Secretary Application Type: New OFF & NVO License;

Auto Shipping Network, Inc. (NVO), 2035 Harding Street, Hollywood, FL 33020, Officer: Roy Ezra, President/Secretary, (Qualifying Individual), Application Type: New NVO License;

European Roro Lines Corp. (NVO), Rue Heyvaert 142-144, Brussels B-1080 Belgium, Officers: Dany Karim, President/Secretary, (Qualifying Individual), Souhail Karim, Director, Application Type: New NVO License;

First Forward International Services, Inc. dba First Forward, Container Line (NVO), 5733 Arbor Vitae Street, Suite 101, Los Angeles, CA 90045, Officers: Dennis Liebregt, Treasurer, (Qualifying Individual), Nicholas A. Schiele, President/Secretary, Application Type: QI Change;

Goodnight International, Inc. (OFF & NVO), 5160 William Mills Street, Jacksonville, FL 3222, Officers: Angela D. Newkirk, Vice President of Logistics, (Qualifying Individual), MaryJane Mackey, President, Application Type: New OFF & NVO License;

Myunghe Choi (NVO), 4733 Torrance Blvd., #187, Torrance, CA 90503, Officer: Myunghe Choi, President, (Qualifying Individual), Application Type: New NVO;

Prisma Cargo Solutions LLC (NVO), 555 Eight Avenue, #1101, New York, NY 10018, Officer: Peimaneh Riahi, Managing Director/Secretary, (Qualifying Individual), Application Type: New NVO License;

Satellite Logistics Group, Inc. (OFF & NVO), 12621 Featherwood Drive, Suite 390, Houston, TX 77034, Officers: Kevin D. Brady, President, (Qualifying Individual), Diane S. Mohr, CFO, Application Type: License Transfer;

Uniworld International, Inc. (OFF), 7901 Kingspointe Parkway, Suite #24, Orlando, FL 32819, Officers: Tareq Shrourou, Secretary, (Qualifying Individual), M. Wael Shrourou, President, Application Type: QI Change;

World Express & Connection Inc. (OFF & NVO), 63 Hook Road, Bayonne, NJ 07002, Officers: Raya Bakhirev, President, (Qualifying Individual), Nasim Rakhamimov, Secretary, Application Type: New OFF & NVO License.

Dated: May 28, 2010.
Rachel E. Dickon,
Assistant Secretary.

[FR Doc. 2010-13417 Filed 6-2-10; 8:45 am]

BILLING CODE 6730-01-P